DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Black Lung Clinics Program Performance Measures

OMB No. 0915-xxxx—New.

Abstract: The Office of Rural Health Policy (ORHP), Health Resources and Services Administration, conducts an annual data collection of user information for the Black Lung Program, which has been ongoing with OMB approval since 2004. The program supports projects that seek to reduce the morbidity and mortality associated with occupationally-related coal mine dust lung disease. Primary services provided for active, inactive, disabled, and retired coal miners include screening, diagnosis, and treatment. Data collected will provide information on patient demographics, provision and quality of services, and patient outcomes. This data will help to ensure grantees are meeting the overall program goals, which include reducing the morbidity of coal mine dust lung disease (CMDLD) and secondary conditions; enhancing access to quality services; and increasing coordination among service providers.

Need and Proposed Use of the Information: The various measures on number of patients served in medical and nonmedical encounters will ensure that clinics are providing screening, diagnosis, and treatment services as well as compensation counseling. HRSA will be able to determine the number of new patients with an initial diagnosis of lung disease as a result of coal mine employment and the number of patients initially eligible for benefits. Other measures will account for secondary conditions common to miners (e.g., cardiovascular disease) and the number of insured (vs. uninsured patients). All of this information will assist HRSA in meeting congressional reporting requirements under the Government Reporting and Performance Act of 1993 and in ensuring the needs of the nation's coal miners are met.

Likely Respondents: Current and prospective Black Lung Clinics Program grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:

Form name | Number of respondents | Number of responses per respondent | Total responses | Average burden per response (in hours) | Total burden hours
New Black Lung Clinics Program Performance Measures | 18 | 1 | 18 | 12 | 216
Total | 18 | 1 | 18 | 12 | 216

HRSA specifically requests comments on (1) the utility of the proposed information collection for the proper performance of the agency's functions, (2) the accuracy of the estimated burden, (3) ways to enhance the quality, utility, and clarity of the information to be collected, and (4) the use of automated collection techniques or other forms of information technology to minimize the information collection burden.

Dated: December 12, 2013.
Bahar Niakan,
Director, Division of Policy and Information Coordination.

[FR Doc. 2013-30285 Filed 12-19-13; 8:45 am]

BILLING CODE 4165-15-P